FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—12/15/2008
20090154 | Eli Lilly and Company | United Therapeutics Corporation | United Therapeutics Corporation.
TRANSACTIONS GRANTED EARLY TERMINATION—12/16/2008
20090194 | BB&T Corporation | Mr. Tapley 0. Johnson, III | Charleston Premium Finance Company.
|  |  | Charleston Premium Finance Company of California, Inc. TAPCO Underwriters, Inc.
20090195 | Mr. Tapley 0. Johnson, III | BB&T Corporation | BB&T Corporation.
TRANSACTIONS GRANTED EARLY TERMINATION—12/17/2008
20090181 | Lifespan Corporation | Care New England Health System | Care New England Health System.
20090204 | State Automobile Mutual Insurance Company | HBK Offshore Fund Ltd. | Rockhill Holding Company.
TRANSACTIONS GRANTED EARLY TERMINATION—12/18/2008
20090171 | Welsh, Carson, Anderson & Stowe X, L.P | Bruce E. Toll and Robbi S. Toll | National Renal Alliance, LLC.
TRANSACTIONS GRANTED EARLY TERMINATION—12/19/2008
20081575 | Teva Pharmaceutical Industries Limited | Barr Pharmaceuticals, Inc. | Barr Pharmaceuticals, Inc.
20090203 | Nelson Peltz | Wendy's/Arby's Group, Inc. | Wendy's/Arby's Group, Inc.
20090205 | United Farmers of Alberta Co-operative Limited | Stuart Utgaard | Sportsman's Warehouse Holdings, Inc.
TRANSACTIONS GRANTED EARLY TERMINATION—12/24/2008
20081692 | King Pharmaceuticals, Inc. | Alpharma, Inc. | Alpharma, Inc.
20090185 | Wells Fargo & Company | New Omaha Holdings L.P. | Wells Fargo Merchant Services, LLC.
TRANSACTIONS GRANTED EARLY TERMINATION—12/30/2008
20090206 | Wilton Re Holdings Limited | MetLife, Inc | Cova Corporation.
20090218 | Bank of America Corporation | Yum! Brands, Inc | Pizza Hut, Inc.
20090222 | NuVision Federal Credit Union | El Financial Credit Union | El Financial Credit Union.
TRANSACTIONS GRANTED EARLY TERMINATION—12/31/2008
20090221 | MiTAC Inter-national Corporation | Magellan Investors LLC. | Magellan Navigation, Inc.

FOR FURTHER INFORMATION CONTACT: Sandra M. Peay, Contact Representative or Renee Hallman, Contact Representative. Federal Trade Commission, Premerger Notification Office, Bureau of Competition, Room H-303, Washington, DC 20580, (202) 326-3100.

By Direction of the Commission.
Donald S. Clark,
Secretary.

[FR Doc. E9-240 Filed 1-9-09; 8:45 am]

BILLING CODE 6750-01-M